DEPARTMENT OF COMMERCE

Bureau of Industry and Security

[Docket No. 170802716-7716-01]

National Defense Stockpile Market Impact Committee Request for Public Comments on the Potential Market Impact of the Proposed Fiscal Year 2020 Annual Materials Plan

AGENCY: Bureau of Industry and Security, Commerce.

ACTION: Notice of inquiry; request for comments.

SUMMARY: The purpose of this notice is to advise the public that the National Defense Stockpile Market Impact Committee, co-chaired by the Departments of Commerce and State, is seeking public comments on the potential market impact of the proposed Fiscal Year 2020 National Defense Stockpile Annual Materials Plan. The role of the Market Impact Committee is to advise the National Defense Stockpile Manager on the projected domestic and foreign economic effects of all acquisitions, conversions, and disposals involving the stockpile and related material research and development projects. Public comments are an important element of the Committee's market impact review process.

DATES: To be considered, written comments must be received by October 11, 2018.

ADDRESSES: Address all comments concerning this notice to Eric Longnecker, U.S. Department of Commerce, Bureau of Industry and Security, Office of Strategic Industries and Economic Security, 1401 Constitution Avenue NW, Room 3876, Washington, DC 20230, fax: (202) 482-5650 (Attn: Eric Longnecker), email: MIC@bis.doc.gov; and Matthew McManus, Deputy Director, Office of Policy Analysis and Public Diplomacy, U.S. Department of State, Bureau of Energy Resources, 2201 C Street NW, Washington, DC 20520, fax: (202) 647-7431 (Attn: Matthew McManus), email: McManusMT@state.gov.

FOR FURTHER INFORMATION CONTACT: Parya Fenton, Office of Strategic Industries and Economic Security, Bureau of Industry and Security, U.S. Department of Commerce, telephone: (202) 482-8228, fax: (202) 482-5650 (Attn: Parya Fenton), email: MIC@bis.doc.gov.

SUPPLEMENTARY INFORMATION:

Background

Under the authority of the Strategic and Critical Materials Stock Piling Revision Act of 1979, as amended (the Stock Piling Act) (50 U.S.C. 98 et seq.), the Department of Defense's Defense Logistics Agency (DLA), as National Defense Stockpile Manager, maintains a stockpile of strategic and critical materials to supply the military, industrial, and essential civilian needs of the United States for national defense. Section 9(b)(2)(G)(ii) of the Stock Piling Act (50 U.S.C. 98h(b)(2)(H)(ii)) authorizes the National Defense Stockpile Manager to fund material research and development projects to develop new materials for the stockpile.

Section 3314 of the Fiscal Year (FY) 1993 National Defense Authorization Act (NDAA) (50 U.S.C. 98h-1) formally established a Market Impact Committee (the Committee) to “advise the National Defense Stockpile Manager on the projected domestic and foreign economic effects of all acquisitions and disposals of materials from the stockpile. . . .” The Committee must also balance market impact concerns with the statutory requirement to protect the U.S. Government against avoidable loss.

The Committee is comprised of representatives from the Departments of Commerce, State, Agriculture, Defense, Energy, Interior, the Treasury, and Homeland Security, and is co-chaired by the Departments of Commerce and State. The FY 1993 NDAA directs the Committee to consult with industry representatives that produce, process, or consume the materials stored in or of interest to the National Defense Stockpile Manager.

As the National Defense Stockpile Manager, the DLA must produce an Annual Materials Plan proposing the maximum quantity of each listed material that may be acquired, disposed of, upgraded, converted, recovered, or sold by the DLA in a particular fiscal year. In Attachment 1, the DLA lists the quantities and types of activity (potential disposals, potential acquisitions, potential conversions (upgrade, rotation, reprocessing, etc.) or potential recovery from government sources) associated with each material in its proposed FY 2020 Annual Materials Plan (“AMP”). The quantities listed in Attachment 1 are not acquisition, disposal, upgrade, conversion, recovery, reprocessing, or sales target quantities, but rather a statement of the proposed maximum quantity of each listed material that may be acquired, disposed of, upgraded, converted, recovered, or sold in a particular fiscal year by the DLA, as noted. The quantity of each material that will actually be acquired or offered for sale will depend on the market for the material at the time of the acquisition or offering, as well as on the quantity of each material approved for acquisition, disposal, conversion (upgrade, rotation, reprocessing, etc.), or recovery by Congress.

The Committee is seeking public comments on the potential market impact associated with the proposed FY 2020 AMP as enumerated in Attachment 1. Public comments are an important element of the Committee's market impact review process.

Submission of Comments

The Committee requests that interested parties provide written comments, supporting data and documentation, and any other relevant information on the potential market impact of the quantities associated with the proposed FY 2020 AMP. All comments must be submitted to the addresses indicated in this notice. All comments submitted through email must include the phrase “Market Impact Committee Notice of Inquiry” in the subject line.

The Committee encourages interested persons who wish to comment to do so at the earliest possible time. The period for submission of comments will close on October 11, 2018. The Committee will consider all comments received before the close of the comment period. Comments received after the end of the comment period will be considered, if possible, but their consideration cannot be assured.

All comments submitted in response to this notice will be made a matter of public record and will be available for public inspection and copying. Anyone submitting business confidential information should clearly identify the business confidential portion of the submission and also provide a non-confidential submission that can be placed in the public record. The Committee will seek to protect such information to the extent permitted by law.

The Office of Administration, Bureau of Industry and Security, U.S. Department of Commerce, displays public comments on the BIS Freedom of Information Act (FOIA) website at https://efoia.bis.doc.gov/. This office does not maintain a separate public inspection facility. If you have technical difficulties accessing this website, please call BIS's Office of Administration at (202) 482-1900 for assistance.

Dated: September 5, 2018.
Richard Ashooh,
Assistant Secretary for Export Administration.

Attachment 1

Proposed Fiscal Year 2020 Annual Materials Plan
Material | Unit | Quantity | Footnote
Potential Disposals
Beryllium Metal | ST | 8 |
Chromium, Ferro | ST | 23,500 |
Chromium, Metal | ST | 200 |
Germanium Scrap | kg | 3,000 |
Manganese, Ferro | ST | 50,000 |
Manganese, Metallurgical Grade | SDT | 322,025 |
Nickel Based Alloys | Lbs | 600,000 |
Platinum | Tr Oz | 8,380 |
PGM—Iridium | Tr Oz | 489 |
Tantalum Carbide Powder | Lb Ta | 3,777 |
Tantalum Scrap | Lbs | 190 |
Titanium Based Alloys | Lbs | 150,000 |
Tungsten Metal Powder | LB W | 275,738 |
Tungsten Ores and Concentrates | LB W | 3,000,000 |
Zinc | ST | 7,993 |
Potential Acquisitions
Antimony | MT | 1,100 |
Boron Carbide | MT | 1,000 |
High Modulus High Strength Carbon Fibers | MT | 72 |
Carbon Fibers | m² | 5,000 |
Cerium | MT | 900 |
CZT (Cadmium Zinc Tellurium substrates) | cm² | 32,000 |
Electrolytic Manganese Metal | MT | 5,000 |
Lanthanum | MT | 4,100 |
Potassium Nitrate | Lbs | 100,000 |
Rare Earth Magnet Feedstock | MT | 100 |
Rayon | MT | 600 |
RDX/HMX/IMX/TNT | Lbs | 7,000,000 |
Silicon Carbide Fibers | Lbs | 875 |
TATB (Triamino-Trinitrobenzene) | Lbs | 48,000 |
Tantalum | Lb Ta | 33,990 |
Tin | MT | 40 |
Tungsten Rhenium Metal | kg | 5,000 |
Potential Conversions (Upgrade, rotation, reprocessing, etc.)
Beryllium Metal | ST | 8 |
CZT (Cadmium Zinc Tellurium substrates) | cm² | 32,000 |
High Modulus High Strength Carbon Fibers | MT | 72 |
Dysprosium | MT | 0.5 |
Europium | MT | 35 |
Germanium (Scrap) | kg | 5,000 |
Iridium Catalyst | Lbs | 50 |
Lithium Ion Materials | MT | 25 |
Rare Earths Elements | MT | 12 |
Silicon Carbide Fibers | Lbs | 875 |
Tin | MT | 804 |
Potential Recovery from Government Sources
Bearing Steel | MT | 50 |
E-Waste | MT | 50 | (¹)
Gadolinium Oxide | MT | 4 |
Germanium (Scrap) | kg | 5,000 |
Iridium Catalyst (Scrap) | Lbs | 50 |
Lithium Ion Materials | MT | 25 |
Magnesium Metal | MT | 25 |
Rhenium Metal | kg | 500 |
Super Alloys | Lbs | 1,500,000 |
Tantalum | MT | 10 |
Yttrium Aluminum Garnet Rods (Scrap) | kg | 250 |
Zirconia Oxide | MT | 4 |
Footnote Key:
¹ Strategic and Critical Materials collected from E-Waste (Strategic Materials collected from electronics waste).

[FR Doc. 2018-19617 Filed 9-10-18; 8:45 am]

BILLING CODE 3510-33-P